DEPARTMENT OF VETERANS AFFAIRS

[OMB Control No. 2900-0198]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before April 27, 2006.

For further Information or a Copy of the Submission Contact: Denise McLamb, Records Management Service (005E3), Department of Veterans Affairs, 810 Vermont Avenue, NW., Washington, DC 20420, (202) 565-8374, FAX (202) 565-6590 or e-mail to: denise.mclamb@mail.va.gov. Please refer to “OMB Control No. 2900-0198.”

Send comments and recommendations concerning any aspect of the information collection to VA's OMB Desk Officer, OMB Human Resources and Housing Branch, New Executive Office Building, Room 10235, Washington, DC 20503, (202) 395-7316. Please refer to “OMB Control No. 2900-0198” in any correspondence.

SUPPLEMENTARY INFORMATION: Title: Application for Annual Clothing Allowance (Under 38 U.S.C. 1162), VA Form 10-8678.

OMB Control Number: 2900-0198.

Type of Review: Extension of a currently approved collection.

Abstract: VA Form 10-8678 is used to gather the necessary information to determine a veteran's eligibility for clothing allowance benefits. Clothing allowance is payable if the veteran uses a prosthetic or orthopedic device (including a wheelchair) that tends to wear out or tear clothing or is prescribed medication for skin condition that causes irreparable damage to outer garments.

An agency may not conduct or sponsor, and a person is not required to respond to a collection of information unless it displays a currently valid OMB control number. The Federal Register Notice with a 60-day comment period soliciting comments on this collection of information was published on December 20, 2005, at pages 75542-75543.

Affected Public: Individuals or households.

Estimated Total Annual Burden: 1,120 hours.

Estimated Average Burden Per Respondent: 10 minutes.

Frequency of Response: Annually.

Estimated Number of Respondents: 6,720.

Dated: March 18, 2006.
By direction of the Secretary.
Denise McLamb,
Program Analyst, Records Management Service.

[FR Doc. E6-4421 Filed 3-27-06; 8:45 am]

BILLING CODE 8320-01-P